DEPARTMENT OF COMMERCE

International Trade Administration

[A-449-804]

Notice of Final Results of Antidumping Duty Administrative Review: Steel Concrete Reinforcing Bars From Latvia

AGENCY: Import Administration, International Trade Administration, Department of Commerce.

SUMMARY: On June 4, 2007, the Department of Commerce (the Department) published the preliminary results of its fifth administrative review of the antidumping duty order on steel concrete reinforcing bars (rebar) from Latvia. This review covers sales of rebar with respect to one producer of the subject merchandise, Joint Stock Company Liepajas Metalurgs (LM). The period of review (POR) is September 1, 2005, through August 31, 2006. We provided interested parties with an opportunity to comment on the preliminary results of this review, but received no comments. The final results do not differ from the preliminary results of this review. We will instruct the U.S. Customs and Border Protection to assess importer-specific antidumping duties on the subject merchandise exported by LM.

DATES: Effective Date: October 9, 2007.

FOR FURTHER INFORMATION CONTACT: David Layton at (202) 482-0371; AD/CVD Operations, Office 1, Import Administration, International Trade Administration, U.S. Department of Commerce, 14th Street & Constitution Avenue, NW., Washington, DC 20230.

SUPPLEMENTARY INFORMATION:

Background

In the preliminary results of this review (see Notice of Preliminary Results of Antidumping Duty Administrative Review: Steel Concrete Reinforcing Bars from Latvia, 72 FR 30773 (June 4, 2007) (“Preliminary Results”)), the Department of Commerce (“the Department”) invited interested parties to comment on the Preliminary Results. No comments were received.

Scope of the Order

The product covered by this order is all steel concrete reinforcing bars sold in straight lengths, currently classifiable in the Harmonized Tariff Schedule of the United States (HTSUS) under item numbers 7214.20.00, 7228.30.8050, 7222.11.0050, 7222.30.0000, 7228.60.6000, 7228.20.1000, or any other tariff item number. Specifically excluded are plain rounds (i.e., non-deformed or smooth bars) and rebar that has been further processed through bending or coating. HTSUS subheadings are provided for convenience and customs purposes. The written description of the scope of the order is dispositive.

Final Results of Review

These final results remain unchanged from the Preliminary Results. We provided an opportunity for parties to comment on our Preliminary Results and received no comments.

Therefore, we find that the following percentage weighted-average margin exists for the period of September 1, 2005, through August 31, 2006:

Producer | Weighted-average margin (percentage)
Joint Stock Company Liepajas Metalurgs | 5.94

Assessment

The Department will determine, and U.S. Customs and Border Protection (CBP) shall assess, antidumping duties on all appropriate entries, pursuant to 19 CFR 351.212(b). We calculate importer-specific duty assessment rates on the basis of the ratio of the total amount of antidumping duties calculated for the examined sales to the total quantity of the sales for that importer. Where the assessment rate is above de minimis, we instruct CBP to assess duties on all entries of subject merchandise by that importer. As explained in the Preliminary Results, the Department will apply the importer-specific assessment rates calculated in the previous review. The Department intends to issue assessment instructions to CBP 15 days after the date of publication of these final results of review.

The Department clarified its “automatic assessment” regulation on May 6, 2003 (68 FR 23954). This clarification will apply to entries of subject merchandise during the POR produced by companies included in these final results of review for which the reviewed companies did not know their merchandise was destined for the United States. In such instances, the Department will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposits

The following cash deposit requirements were effective upon publication of the final results of the previous administrative review (see Notice of Final Results of Antidumping Duty Administrative Review: Steel Concrete Reinforcing Bars from Latvia, 71 FR 74900 (December 13, 2006)) for all shipments of rebar from Latvia entered, or withdrawn from warehouse, for consumption on or after December 13, 2006, as provided by section 751(a)(1) of the Tariff Act of 1930, as amended (“the Act”), and will continue to be in effect: (1) The cash deposit rate listed above for LM will be 5.94 percent; (2) for previously reviewed or investigated companies not listed above, the cash deposit rate will continue to be the company-specific rate published for the most recent period; (3) if the exporter is not a firm covered in this review, a prior review, or the less-than-fair-value (LTFV) investigation, but the manufacturer is, the cash deposit rate will be the rate established for the most recent period for the manufacturer of the merchandise; and (4) if neither the exporter nor the manufacturer is a firm covered in this or any previous review conducted by the Department, the cash deposit rate will be 17.21 percent, the “All Others” rate established in the LTFV investigation. These cash deposit requirements shall remain in effect until further notice.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred, and in the subsequent assessment of double antidumping duties.

This notice also is the only reminder to parties subject to administrative protective order (APO) of their responsibility concerning the return or destruction of proprietary information disclosed under APO in accordance with 19 CFR 351.305. Timely written notification of the return/destruction of APO materials or conversion to judicial protective order is hereby requested. Failure to comply with the regulations and the terms of an APO is a sanctionable violation.

We are issuing and publishing these results and notice in accordance with sections 751(a)(1) and 777(i)(1) of the Act.

October 2, 2007.
David M. Spooner,
Assistant Secretary for Import Administration.

[FR Doc. E7-19821 Filed 10-5-07; 8:45 am]

BILLING CODE 3510-DS-P